NATIONAL AERONAUTICS AND SPACE ADMINISTRATION

[NOTICE: [22-030]]

Name of Information Collection: NASA Science Mission Directorate Workplace Climate Survey

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by May 20, 2022.

ADDRESSES: Written comments and recommendations for this information collection should be sent within 30 days of publication of this notice to www.reginfo.gov/public/do/PRAMain. Find this particular information collection by selecting “Currently under 30-day Review-Open for Public Comments” or by using the search function.

FOR FURTHER INFORMATION CONTACT: Requests for additional information or copies of the information collection instrument(s) and instructions should be directed to Claire Little, NASA Clearance Officer, NASA Headquarters, 300 E Street SW, JF0000, Washington, DC 20546, 202-358-2375 or email claire.a.little@nasa.gov.

SUPPLEMENTARY INFORMATION:

I. Abstract

The Science Mission Directorate (SMD) within NASA is undertaking an Inclusion, Diversity, Equity, and Accessibility (IDEA) change effort. SMD seeks to advance these IDEA principles in all SMD programs and activities. This survey will be used as an evidence-building tool baselining SMD staff (civil servants and contractors) views on the SMD cultural climate. The survey will then be periodically (approximately annually) administered to determine whether cultural indicators are improving as IDEA efforts are implemented. Data obtained is intended for SMD internal use only and will not be publicly released. Data will be used to inform and substantiate IDEA strategy, initiatives, and design. This intelligence will be laser-focused on improving SMD's internal environment. This survey will be open to both contractors and civil servants because contractors are integral to and embedded within the SMD workforce. No other data collection mechanism exists to obtain opinions from the contractor portion of the workforce on this topic. The survey will be voluntary and anonymous (the identity of survey respondents will not be collected).

II. Methods of Collection

Electronic.

III. Data

Title: SMD Climate Survey.

OMB Number:

Type of review: New.

Affected Public: Individuals who work as contractors, detailees, or IPAs for NASA SMD.

Estimated Annual Number of Activities: 1.

Estimated Number of Respondents per Activity: 400.

Annual Responses: 400.

Estimated Time per Response: 15 minutes.

Estimated Total Annual Burden Hours: 100 hours.

Estimated Total Annual Cost: $3,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2022-08355 Filed 4-19-22; 8:45 am]

BILLING CODE P